DEPARTMENT OF STATE

[Public Notice 6845]

Shipping Coordinating Committee; Notice of Committee Meeting

The Shipping Coordinating Committee (SHC) will conduct an open meeting at 9:30 a.m. on Thursday, January 21, 2010, in Room 2415 of the United States Coast Guard Headquarters Building, 2100 Second Street, SW., Washington, DC 20593-0001. The primary purpose of the meeting is to prepare for the fifty-third Session of the International Maritime Organization (IMO) Subcommittee on Ship Design and Equipment (DE) to be held at the IMO Headquarters, United Kingdom, from February 22 to February 26, 2010.

The primary matters to be considered include:

—Adoption of the agenda.

—Decisions of other IMO bodies.

—Measures to prevent accidents with lifeboats.

—Compatibility of life-saving appliances.

—Revision of resolution A.760(18).

—Performance standards for recovery systems.

—Cargo oil tank coating and corrosion protection.

—Development of a new framework of requirements for life-saving appliances.

—Guidance to ensure consistent policy for determining the need for watertight doors to remain open during navigation.

—Protection against noise on board ships.

—Thermal performance of immersion suits.

—Alternative arrangements for the bottom inspection requirements for passenger ships other than ro-ro passenger ships.

—Amendments to the Revised recommendation on testing of life-saving appliances.

—Safety provisions applicable to tenders operating from passenger ships.

—Classification of offshore industry vessels and consideration of the need for a code for offshore construction support vessels.

—Interpretation on application of SOLAS, MARPOL and Load Line requirements for major conversions of oil tankers.

—Consideration of IACS unified interpretations.

—Development of a mandatory Code for ships operating in polar waters.

—Application of amendments to SOLAS chapter III and the LSA Code.

—Guidelines for a visible element to general alarm systems on passenger ships.

—Improvement of existing pollution prevention equipment.

—Development of guidelines for a shipboard oil waste pollution prevention plan.

—Manually operated alternatives in the event of prevention pollution equipment malfunctions.

—Work programme and agenda for DE 54.

—Any other business.

—Report to the Maritime Safety Committee.

Members of the public may attend this meeting up to the seating capacity of the room. To facilitate the building security process, those who plan to attend should contact the meeting coordinator, Mr. Wayne Lundy, by e-mail at Wayne.M.Lundy@uscg.mil, by phone at (202) 372-1379, by fax at (202) 372-1925, or in writing at Commandant (CG-5213), U.S. Coast Guard, 2100 2nd Street, SW., Stop 7126, Washington, DC 20593-7126 not later than 72 hours before the meeting. A member of the public requesting reasonable accommodation should make such request prior to January 14th, 2010. Requests made after that time might not be able to be accommodated. Please note that due to security considerations, two valid, government issued photo identifications must be presented to gain entrance to the Headquarters building. The Headquarters building is accessible by taxi and privately owned conveyance (public transportation is not generally available). However, parking in the vicinity of the building is extremely limited. Additional information regarding this and other IMO SHC public meetings may be found at: http://www.uscg.mil/imo.

Dated: December 22, 2009.
Jon Trent Warner,
Executive Secretary, Shipping Coordinating Committee, Department of State.

[FR Doc. E9-30833 Filed 12-28-09; 8:45 am]

BILLING CODE 4710-09-P